ENVIRONMENTAL PROTECTION AGENCY

[FRL-8183-8]

Draft NPDES General Permit for Groundwater Remediation Discharge Facilities in Idaho (Permit No. ID-G91-0000)

AGENCY: Environmental Protection Agency (EPA).

ACTION: Notice of availability of draft NPDES general permit.

SUMMARY: The Director, Office of Water and Watersheds, EPA Region 10, is proposing to issue a general National Pollutant Discharge Elimination System (NPDES) permit for groundwater remediation discharge facilities in Idaho, pursuant to the provisions of the Clean Water Act, 33 U.S.C. 1251 et seq. The draft general permit authorizes the discharge of treated groundwater from new and existing facilities to surface waters of the United States within the State of Idaho. Interested persons may submit comments on the proposed general permit to EPA Region 10 at the address below.

DATES: Comments must be received or postmarked by August 14, 2006. A fact sheet has been prepared which sets forth the principal factual, legal, policy, and scientific information considered in the development of the draft general permit.

The draft general permit contains a variety of technology-based and water quality-based effluent limitations for 55 pollutants of concern commonly found in contaminated groundwater, along with administrative and monitoring requirements, as well as other standard conditions, prohibitions, and management practices. Effluent limits are applied at end-of-pipe with no mixing zone. However, mixing zones are available on an individual basis at the discretion of the Idaho Department of Environmental Quality (IDEQ) for pollutants with water quality-based effluent limits. Mixing zones will be granted through an individual State certification that will be attached to EPA's authorization to discharge letter.

Public Comment: Interested persons may submit written comments on the draft general NPDES permit to the attention of Robert Rau at the address below. Copies of the draft general permit and fact sheet are available upon request. The general permit and fact sheet may also be downloaded from the Region 10 Web site at http://www.epa.gov/r10earth/waterpermits.htm (click on draft permits, then Idaho). All comments should include the name, address, and telephone number of the commenter and a concise statement of comment and the relevant facts upon which it is based. Comments of either support or concern which are directed at specific, cited permit requirements are appreciated.

After the expiration date of the Public Notice on August 14, 2006, the Director, Office of Water and Watersheds, EPA Region 10, will make a final determination with respect to issuance of the general permit. The proposed requirements contained in the draft general permit will become final upon issuance if no significant comments are received during the public comment period.

ADDRESSES: Comments on the proposed general permit should be sent to Robert Rau; USEPA Region 10; 1200 6th Ave, OWW-130; Seattle, Washington 98101. Comments may also be received via electronic mail at rau.rob@epa.gov.

FOR FURTHER INFORMATION CONTACT: Additional information can be obtained by contacting Robert Rau at the address above, or by visiting the Region 10 Web site at http://www.epa.gov/r10earth/waterpermits.htm. Requests may also be made to Audry Washington at (206) 553-0523, or electronically mailed to: washington.audry@epa.gov. For further information regarding the State's certification of the general permit, contact Johnna Sandow at the address below.

SUPPLEMENTARY INFORMATION:

Public Hearing

Persons wishing to request a public hearing should submit their written request by August 14, 2006 stating the nature of the issues to be raised as well as the requester's name, address and telephone number to Robert Rau at the address above. If a public hearing is scheduled, notice will be published in the Federal Register. Notice will also be posted on the Region 10 Web site, and will be mailed to all interested persons receiving copies of the draft permit.

Administrative Record

The complete administrative record for the draft permit is available for public review at the EPA Region 10 headquarters at the address listed above.

Other Legal Requirements

A. State Water Quality Standards and State Certification

EPA is also providing Public Notice of IDEQ's intent to certify the general permit pursuant to section 401 of the Clean Water Act. IDEQ has provided a draft certification that the draft general permit complies with State Water Quality Standards (IDAPA 58.01.02), including the State's antidegradation policy.

Persons wishing to comment on State certification of the draft general NPDES permit should send written comments to Ms. Johnna Sandow at the IDEQ State Office, 1410 N. Hilton, Boise, Idaho 83706, or via electronic mail at johnna.sandow@deq.idaho.gov.

B. Endangered Species Act

EPA has determined that issuance of the groundwater remediation discharge General Permit will have no affect any threatened or endangered species, designated critical habitat, or essential fish habitat.

C. Executive Order 12866

EPA has determined that this general permit is not a “significant regulatory action” under the terms of Executive Order 12866 and is therefore not subject to OMB review.

D. Paperwork Reduction Act

The information collection requirements of this permit were previously approved by the Office of Management and Budget (OMB) under the provisions of the Paperwork Reduction Act, 44 U.S.C. 3501 et seq., and assigned OMB control numbers 2040-0086 (NPDES permit application) and 2040-0004 (discharge monitoring reports).

E. Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b), and is therefore not subject to the RFA.

F. Unfunded Mandates Reform Act

Section 201 of the Unfunded Mandates Reform Act (UMRA), Public Law 104-4, generally requires Federal agencies to assess the effects of their “regulatory actions” (defined to be the same as “rules” subject to the RFA) on tribal, state, and local governments and the private sector. However, general NPDES permits are not “rules” subject to the requirements of 5 U.S.C. 553(b), and is therefore not subject to the RFA.

Dated: June 1, 2006.
Christine Psyk,
Associate Director, Office of Water and Watersheds, Region 10.

[FR Doc. E6-9190 Filed 6-12-06; 8:45 am]

BILLING CODE 6560-50-P